ENVIRONMENTAL PROTECTION AGENCY

[EPA-HQ-OW-2002-0059; FRL-9990-20-OEI]

Information Collection Request Submitted to OMB for Review and Approval; Comment Request; Safe Drinking Water Act State Revolving Fund Program (Renewal)

AGENCY: Environmental Protection Agency (EPA).

ACTION: Notice.

SUMMARY: The Environmental Protection Agency (EPA) has submitted an information collection request (ICR), Safe Drinking Water Act State Revolving Fund Program (EPA ICR Number 1803.08, OMB Control Number 2040-0185) to the Office of Management and Budget (OMB) for review and approval in accordance with the Paperwork Reduction Act (PRA). This is a proposed renewal of the ICR, which is currently approved through April 30, 2019. Public comments were previously requested via the Federal Register on August 13, 2018, during a 60-day comment period. This notice allows for an additional 30 days for public comments. A fuller description of the ICR is given below, including its estimated burden and cost to the public. An agency may not conduct or sponsor and a person is not required to respond to a collection of information unless it displays a currently valid OMB control number.

DATES: Additional comments must be submitted on or before May 29, 2019.

ADDRESSES: Submit your comments, referencing Docket ID No. EPA-HQ-2002-0059, to (1) the EPA online using www.regulations.gov (our preferred method), by email to OW-Docket@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Howard Rubin, Drinking Water Protection Division, Office of Ground Water and Drinking Water, 4606M, Environmental Protection Agency, 1200 Pennsylvania Ave. NW, Washington, DC 20460; telephone number: 202-564-2051; email address: Rubin.HowardE@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Safe Drinking Water Act (SDWA) Amendments of 1996 (Pub. L. 104-182) authorized the creation of the Drinking Water State Revolving Fund (DWSRF; the Fund) program in each state and Puerto Rico, to assist public water systems in financing the costs of infrastructure needed to achieve or maintain compliance with the SDWA requirements and to protect public health. The SDWA, section 1452, authorizes the Administrator of the EPA to award capitalization grants to the states and Puerto Rico which, in turn, provide low-cost loans and other types of assistance to eligible drinking water systems. States can also reserve a portion of their grants to conduct various set-aside activities. The information collection activities will occur primarily at the program level through the (1) Capitalization Grant Application and Agreement/State Intended Use Plan; (2) Biennial Report; (3) Annual Audit; (4) Assistance Application Review; and (5) DWSRF National Information Management System and the Projects and Benefits Reporting System.

Form Numbers: None.

Respondents/affected entities: Entities affected by this action are states and local governments.

Respondent's obligation to respond: Required to obtain or retain a benefit per the Safe Drinking Water Act Section 1452(g)(1).

Estimated number of respondents: 379 state and local respondents (total).

Frequency of response: Varies by requirement (i.e., quarterly, semi-annually, and annually).

Total estimated burden: 88,793 hours (per year) for state and local respondents. Burden is defined at 5 CFR 1320.03(b).

Total estimated cost: $3,355,516 (per year) for state and local respondents.

Changes in estimates: There is a net decrease in total respondent burden hours from the previous ICR. This is due to burden calculated with alternating 25 states and 26 states each year producing biennial reports. Since ICR's capture 3-year timeframes, some ICRs will have more years of 26 state reports then other. There is also a correction to the calculation of EPA burden hours. These have been increased to more accurately align EPA review of audits with State burden of audits, with both tables assuming each state will audit every year.

Courtney Kerwin,
Director, Regulatory Support Division.

[FR Doc. 2019-08578 Filed 4-26-19; 8:45 am]

BILLING CODE 6560-50-P